CHEMICAL SAFETY AND HAZARD INVESTIGATION BOARD

Sunshine Act Meeting

In connection with its investigation into the cause of a deadly flash fire at an oilfield waste recovery facility south of Houston, which killed two workers and injured three others on Monday, January 13, 2003, the United States Chemical Safety and Hazard Investigation Board announces that it will convene a Public Meeting beginning at 9:30 am local time on September 17, at the George Washington University Conference Center's Third Floor Amphitheater, 800 21st Street, NW., Washington, DC.

The accident occurred at the BLSR Operating Ltd. petroleum storage and separation facility on Route 521 in Rosharon, TX. The CSB is an independent federal agency charged with determining root causes of chemical accidents and making recommendations to prevent their recurrence.

The CSB will also hear presentation on a case study on a hydrogen sulfide exposure incident that occurred December 11, 2002 at the Environmental Enterprises, Inc. facility in Cincinnati, Ohio. One injury was reported. Using the incorrect vessel for waste treatment caused the hydrogen sulfide exposure.

At the meeting CSB staff will present to the Board the results of their investigations into these incidents, including an analysis of the incident together with a discussion of the key findings, root and contributing causes, and draft recommendations.

Recommendations are issued by a vote of the Board and address an identified safety deficiency uncovered during the investigation, and specify how to correct the situation. Safety recommendations are the primary tool used by the Board to motivate implementation of safety improvements and prevent future incidents. The CSB uses its unique independent accident investigation perspective to identify trends or issues that might otherwise be overlooked. CSB recommendations may be directed to corporations, trade associations, government entities, safety organizations, labor unions and others.

After the staff presentation, the Board will allow a time for public comment. Following the conclusion of the public comment period, the Board will consider whether to vote to approve the final report and recommendations. When a report and its recommendations are approved, this will begin CSB's process for disseminating the findings and recommendations of the report not only to the recipients of recommendations but also to other public and industry sectors. The CSB believes that this process will ultimately lead to the adoption of recommendations and the growing body of safety knowledge in the industry, which, in turn, should save future lives and property.

All staff presentations are preliminary and are intended solely to allow the Board to consider in a public forum the issues and factors involved in this case. No factual analyses, conclusions or findings should be considered final. Only after the Board has considered the staff presentation and approved the staff report will there be an approved final record of this incident.

The meeting will be open to the public. Please notify CSB if a translator or interpreter is needed, at least 5 business days prior to the public meeting. For more information, please contact the Chemical Safety and Hazard Investigation Board at (202)-261-7600, or visit our Web site at: http://www.csb.gov.

Christopher W. Warner,
General Counsel.

[FR Doc. 03-22237 Filed 8-26-03; 4:31 pm]

BILLING CODE 6350-01-P